DEPARTMENT OF TRANSPORTATION

Federal Aviation Administration

[Policy Statement No. PS-ANM100-2004-10029]

Process for Developing Instructions for Maintenance and Inspection of Fuel Tank Systems Required by SFAR88

AGENCY: Federal Aviation Administration (FAA), DOT.

ACTION: Notice of proposed policy; request for comments.

SUMMARY: The Federal Aviation Administration (FAA) announces the availability of proposed policy on the process used by holders of type certificates and supplemental type certificates to develop Airworthiness Limitations and instructions for maintenance and inspection of the fuel tank systems of certain transport category airplanes, as required by Special Federal Aviation Regulations Number 88 (SFAR 88).

DATES: Send your comments on or before June 28, 2004.

ADDRESSES: Address your comments to the individual identified under FOR FURTHER INFORMATION CONTACT.

FOR FURTHER INFORMATION CONTACT: Dennis Kammers, Federal Aviation Administration, Transport Airplane Directorate, Transport Standards Staff, Propulsion/ Mechanical Systems Branch, ANM-112, 1601 Lind Avenue SW., Renton, WA 98055-4056; telephone (425) 227-2956; fax (425) 227-1149; e-mail: dennis.kammers@faa.gov.

SUPPLEMENTARY INFORMATION:

Comments Invited

The proposed policy is available on the Internet at the following address: http://www.airweb.faa.gov/rgl. If you do not have access to the Internet, you can obtain a copy of the policy by contacting the person listed under FOR FURTHER INFORMATION CONTACT.

The FAA invites your comments on this proposed policy. We will accept your comments, data, views, or arguments by letter, fax, or e-mail. Send your comments to the person indicated in FOR FURTHER INFORMATION CONTACT. Mark your comments, “Comments to Policy Statement No. PS-ANM100-2004-10029.”

Use the following format when preparing your comments:

• Organize your comments issue-by-issue.

• For each issue, state what specific change you are requesting to the proposed policy.

• Include justification, reasons, or data for each change you are requesting.

We also welcome comments in support of the proposed policy.

We will consider all communications received on or before the closing date for comments. We may change the proposed policy because of the comments received.

Background

This proposed policy provides guidance for complying with the requirements in Special Federal Aviation Regulation Number 88 (SFAR 88) for the preparation of instructions for maintenance and inspection of fuel tank systems in certain transport category airplanes. Paragraph 2(a) of SFAR 88 requires certain holders of Type Certificates (TCs) and Supplemental Type Certificates (STCs) of large transport airplanes to conduct a safety review of the fuel tank systems. The purpose of the safety review is to identify design features that may result in development of ignition sources in the fuel tank systems.

Corrective actions, such as design changes, operational procedures, or maintenance may be necessary to eliminate those ignition sources.

The proposed policy relates to paragraphs 2(b) and 2(c)(2) of SFAR 88 which require that, based upon the safety review, the TC and STC holders develop Airworthiness Limitations and instructions for maintenance and inspection of the fuel tank systems in order to maintain those design features which preclude the existence of the development of an ignition source.

The FAA intends that operators use those instructions to propose changes in their maintenance programs in order to properly maintain the ignition-prevention features of the fuel tank system for the operational life of the airplane.

Issued in Renton, Washington, on May 24, 2004.
Ali Bahrami,
Acting Manager, Transport Airplane Directorate, Aircraft Certification Service.

[FR Doc. 04-12067 Filed 5-27-04; 8:45 am]

BILLING CODE 4910-13-P